FEDERAL COMMUNICATIONS COMMISSION

[DA 16-1076]

Final Notice of Intent To Declare the International Section 214 Authorization of Redes Modernas de la Frontera SA de CV Terminated

AGENCY: Federal Communications Commission.

ACTION: Notice.

SUMMARY: In this document, the International Bureau (Bureau) affords Redes Modernas de la Frontera SA de CV (Redes) final notice and opportunity to respond to the April 13, 2016 letter submitted by the Department of Homeland Security (DHS), with the concurrence of the Department of Justice (DOJ) (collectively “the Agencies”) requesting that the FCC terminate, declare null and void and no longer in effect the international section 214 authorization issued to Redes under file number ITC-214-20070515-00189.

DATES: Submit comments on or before October 24, 2016.

ADDRESSES: The Bureau is serving a copy of the Public Notice on Redes by certified mail, return receipt requested, at the last addresses of record appearing in Commission records. Redes should send its response to Denise Coca, Chief, Telecommunications and Analysis Division, International Bureau via email at Denise.Coca@fcc.gov and to Veronica Garcia-Ulloa, Attorney Advisor, Telecommunications and Analysis Division, International Bureau at Veronica.Garcia-Ulloa@fcc.gov and file it in IBFS under File No. ITC-214-20070515-00189.

FOR FURTHER INFORMATION CONTACT: For further information, please contact Veronica Garcia-Ulloa, Attorney Advisor, Telecommunications and Analysis Division, International Bureau, (202) 418-0481.

SUPPLEMENTARY INFORMATION: In the Executive Branch April 13, 2016 Letter, the Agencies state that Redes is no longer in business. The Agencies indicate that they issued their non-objection to the Commission granting the authorization provided that Redes abide by the commitments and undertakings contained in the July 10, 2007 Letter that Redes entered into with the Agencies. On July 5, 2016, the Bureau's Telecommunications and Analysis Division sent a letter to Redes at the last known addresses on record via certified, return receipt mail, asking Redes to respond to the Agencies' allegations by August 3, 2016. The Bureau July 5, 2016 Letter stated that failure to respond would result in the issuance of an order to terminate Redes' international section 214 authorization. Redes did not respond to the request. The FCC Form 499 Database states that Redes is no longer active as of May 1, 2009, and that the company has gone out of business in its entirety.

In addition, Redes may also be in violation of several other Commission rules and requirements. After having received an international section 214 authorization, pursuant to section 63.21(a), a carrier “is responsible for the continuing accuracy of the certifications made in its application” and must correct information no longer accurate, “and in any event, within thirty (30) days.” There is no indication that Redes is currently providing service pursuant to its international section 214 authorization. If Redes has discontinued service that affected customers, it may also be in violation of section 63.19(a) of the Commission's rules requiring prior notification for such a discontinuance. As part of its authorization, Redes must file annual international telecommunications traffic and revenue as required by section 43.62 of the Commission rules. Section 43.62(b) states that “[n]ot later than July 31 of each year, each person or entity that holds an authorization pursuant to section 214 to provide international telecommunications service shall report whether it provided international telecommunications services during the preceding calendar year.” Our records indicate that Redes has not filed an annual international telecommunications traffic and revenue report indicating whether or not Redes provided services in 2014 and 2015 and may be in violation of section 43.62 of the Commission rules. All carriers were required to file their section 43.62 traffic and revenue reports for data as of December 31, 2014 by July 31, 2015 and for data as of December 31, 2015 by July 31, 2016. Furthermore, Redes has an outstanding debt and consequently its account is red lighted through the Red Light Display System. Redes must visit the Commission's Red Light Display System's to pay its outstanding debt. Redes' outstanding debt involves regulatory fees. In addition to financial penalties, section 159(c)(3) of the Communications Act and section 1.1164(f) of the Commission's rules grant the Commission the authority to revoke authorizations for failure to timely pay regulatory fees.

Redes' failure to respond to this Public Notice will be deemed as an admission of the facts alleged by the Agencies and of the violations of the statutory and rule provisions set out above. The Bureau hereby provides final notice to Redes that it intends to take action to declare Redes' international 214 authorization terminated for failure to comply with conditions of its authorization. We further advise Redes that its non-compliance with the applicable regulatory provisions would warrant termination wholly apart from demonstrating Redes' inability to satisfy the conditions of its authorization. Redes must respond to this Public Notice and address the issues alleged in the Executive Branch April 13, 2016 Letter, no later than 15 days after publication in the Federal Register.

The proceeding in this Notice shall be treated as a “permit-but-disclose” proceeding in accordance with the Commission's ex parte rules.

Federal Communications Commission.
Denise Coca,
Chief, Telecommunications & Analysis Division, International Bureau.

[FR Doc. 2016-24291 Filed 10-6-16; 8:45 am]

BILLING CODE 6712-01-P